DEPARTMENT OF THE TREASURY

Submission for OMB Review; Comment Request

September 7, 2005.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before October 14, 2005 to be assured of consideration. Financial Crimes Enforcement Network (FinCEN)

OMB Number: 1506-0022.

Type of Review: Extension.

Title: Customer Identification Programs for Future Commission Merchants and Introducing Brokers.

Description: Section 326 of the USA PATRIOT Act added a subsection (1) to 31 U.S.C. 5318 of the Bank Secrecy Act that requires the Secretary of Treasury to require financial institutions to establish and maintain programs to verify the identity of customers opening an account. FinCen has adopted such rules for Futures Commission Merchants and Introducing Brokers.

Respondents: Business or other for-profit.

Estimated Total Reporting Burden: 20,471 hours.

Clearance Officer: Russell Stephenson, (202) 354-6012, Financial Crimes Enforcement Network, Suite 200, 2070 Chain Bridge Road, Vienna, VA 22182.

OMB Reviewer: Alexander T. Hunt, (202) 395-7316, Office of Management and Budget, Room 10235, New Executive Office Building, Washington, DC 20503.

Michael A. Robinson,
Treasury PRA Clearance Officer.

[FR Doc. 05-18184 Filed 9-13-05; 8:45 am]

BILLING CODE 4810-02-P